DEPARTMENT OF DEFENSE

Department of the Air Force

[Docket ID USAF-2010-0030]

Privacy Act of 1974; System of Records

AGENCY: Department of the Air Force, DoD.

ACTION: Notice to add a system of records.

SUMMARY: The Department of the Air Force is proposing to add a system of records notice in its existing inventory of records systems subject to the Privacy Act of 1974, (5 U.S.C. 552a), as amended.

DATES: The proposed action will be effective on December 22, 2010 unless comments are received that would result in a contrary determination.

ADDRESSES: You may submit comments, identified by docket number and/Regulatory Information Number (RIN) and title, by any of the following methods:

• Federal Rulemaking Portal: http://www.regulations.gov. Follow the instructions for submitting comments.

• Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Department of the Air Force Privacy Office, Air Force Privacy Act Office, Office of Warfighting Integration and Chief Information officer, ATTN: SAF/XCPPI, 1800 Air Force Pentagon, Washington, DC 20330-1800, Mr. Charles J. Shedrick, 703-696-6488.

SUPPLEMENTARY INFORMATION: The Department of the Air Force systems of records notices subject to the Privacy Act of 1974, (5 U.S.C. 552a), as amended, have been published in the Federal Register and are available from the FOR FURTHER INFORMATION CONTACT address above.

The proposed systems reports, as required by 5 United States Code 552a(r) of the Privacy Act, were submitted on November 17, 2010 to the House Committee on Oversight and Government Reform, the Senate Committee on Homeland Security and Governmental Affairs, and the Office of Management and Budget pursuant to paragraph 4c of Appendix I to Office of Management and Budget Circular No. A-130, “Federal Agency Responsibilities for Maintaining Records About Individuals,” dated February 8, 1996, (February 20, 1996, 61 Federal Register 6427).

Dated: November 17, 2010.
Morgan F. Park,
Alternate OSD Federal Register Liaison Officer, Department of Defense.

F065 AF FMP

System name:

Financial Management Workflow.

System location:

Located on servers hosted in Building 7510, Ellsworth Air Force Base, SD 57706-4853.

Air Force Financial Services Center Information Technology Team and the 28th Communications Squadron, Ellsworth Air Force Base, SD 57706-4853.

Categories of individuals covered by the system:

Military and civilian personnel assigned to the Air Force and Combatant Commands under the auspices of the Department of the Air Force.

Categories of records in the system:

All open travel orders and military pay effecting transactions, with data that includes; Social Security Number (SSN), name, grade, address, date of birth, transaction ID, document or travel order number and other demographic data, as required by routine military pay or travel pay financial transaction documentation.

Authority for maintenance of the system:

10 U.S.C. 8013, Secretary of the Air Force and E.O. 9397 (SSN), as amended.

Purpose(s):

This system will enable the implementation of centralized records management across the Air Force Financial Service community. This system will also facilitate processing of financial transactions including Military Pay (MilPay), Travel Pay (TDY); Retirement & Separation; Civilian Permanent Change of Station (CivPCS); Debts; and Disbursements. The system will also be used by Call Center personnel to access financial service records to assist base Financial Service Offices and Air Force customers world-wide.

Routine uses of records maintained in the system including categories of users and the purpose of such uses:

In addition to those disclosures generally permitted under 5 U.S.C. 552a(b) of the Privacy Act of 1974, these records contained therein may specifically be disclosed outside the (DoD) as a routine use pursuant to 5 U.S.C. 552a(b)(3) as follows:

The DoD `Blanket Routine Uses' published at the beginning of the Air Force's compilation of record system notices apply to this system.

Policies and practices for storing, retrieving, accessing, retaining, and disposing of records in the system:

Storage:

Electronic storage media and paper records.

Retrievability:

Name, Social Security Number (SSN) and/or transaction ID, document or travel order.

Safeguards:

Data is stored in the Ellsworth AFB facility designated to host the Financial Management Workflow. Records are accessed by users with the appropriate profiles or roles and by persons responsible for servicing the record system in performance of their official duties.

Retention and disposal:

Cut off at the end of the fiscal year. Retain paper records for one year after cut off, then transfer to a Federal Records Center where they will be destroyed 6 years and 3 months after cutoff. If documents are scanned and maintained electronically, retain electronic records for 6 years and 3 months after cutoff.

System manager(s) and address:

Program Manager, SAF/FMP (AFFSO), 1940 Allbrook Dr., Bldg. 1, Wright Patterson Air Force Base, OH 45433-5349. mailto:prentice.beverly@gunter.af.mil.

Notification Procedure:

Individuals seeking to determine whether information about themselves is contained in this system should address written inquiries to the system manager above.

For verification purposes, individuals should provide their full name, Social Security Number (SSN), any details which may assist in locating records, and their signature.

In addition, the requester must provide a notarized statement or an unsworn declaration made in accordance with 28 U.S.C. 1746, in the following format:

If executed outside the United States:

`I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.

Record access procedures:

Individuals seeking access to information about themselves contained in this system should address written inquiries to the system manager above.

For verification purposes, individuals should provide their full name, Social Security Number (SSN), any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)'.

Contesting records procedures:

The Air Force's rules for accessing records and for contesting contents and appealing initial agency determinations are published in Air Force Instruction 37-123; 32 CFR part 806b; or may be obtained from the system manager.

Record source categories:

Information is obtained from the individual and financial management technicians.

Exemptions claimed for the system:

None.

[FR Doc. 2010-29335 Filed 11-19-10; 8:45 am]

BILLING CODE P